DEPARTMENT OF THE TREASURY

Fiscal Service

Surety Companies Acceptable on Federal Bonds: Termination; American Service Insurance Company, Inc.

AGENCY: Bureau of the Fiscal Service, Fiscal Service Department of the Treasury.

ACTION: Notice.

SUMMARY: This is Supplement No. 9 to the Treasury Department Circular 570; 2014 Revision, published July 1, 2014, at 79 FR 37398.

FOR FURTHER INFORMATION CONTACT: Surety Bond Branch at (202) 874-6850.

SUPPLEMENTARY INFORMATION: Notice is hereby given that the Certificate of Authority issued by the Treasury to American Service Insurance Company, Inc. (NAIC #42897) under 31 U.S.C. 9305 to qualify as an acceptable surety on Federal bonds is terminated effective immediately. Federal bond-approving officials should annotate their reference copies of the Treasury Department Circular 570 (“Circular”), 2014 Revision, to reflect this change.

With respect to any bonds currently in force with this company, bond approving officers may let such bonds run to expiration and need not secure new bonds. However, no new bonds should be accepted from this company and bonds that are continuous in nature should not be renewed.

The Circular may be viewed and downloaded through the Internet at http://www.fiscal.treasury.gov/fsreports/ref/surety/Bnd/surety_home.htm.

Questions concerning this notice may be directed to the U.S. Department of the Treasury, Bureau of the Fiscal Service, Financial Accounting and Services Branch, Surety Bond Section, 3700 East-West Highway, Room 6D22, Hyattsville, MD 20782.

Dated: March 26, 2015.
Kevin McIntyre,
Manager, Financial Accounting and Services Branch.

[FR Doc. 2015-08037 Filed 4-7-15; 8:45 am]

BILLING CODE 4810-35-P